DEPARTMENT OF STATE

[Public Notice 5683]

Notice of Charter Renewal for the Advisory Committee on Historical Diplomatic Documentation

The Advisory Committee on Historical Diplomatic Documentation has renewed its charter for an additional period of two years. This Advisory Committee will continue to make recommendations to the Historian and the Department of State on all aspects of the Department's program to publish the Foreign Relations of the United States series as well as on the Department's responsibility under statute (22 U.S.C. 4351, et seq.) to open its 30-year old and older records for public review at the National Archives and Records Administration. The Committee consists of nine members drawn from among historians, political scientists, archivists, international lawyers, and other social scientists who are distinguished in the field of U.S. foreign relations.

Questions concerning the Committee and the renewal of its Charter should be directed to Marc J. Susser, Executive Secretary, Advisory Committee on Historical Diplomatic Documentation, Department of State, Office of the Historian, Washington, DC 20520, telephone (202) 663-1123 (e-mail history@state.gov).

Dated: April 5, 2007.
Marc J. Susser,
Executive Secretary, Department of State.

[FR Doc. E7-6871 Filed 4-10-07; 8:45 am]

BILLING CODE 4710-11-P